DEPARTMENT OF AGRICULTURE

Forest Service

Duck-Sheriff Project, Forest and Warren Counties, Pennsylvania

AGENCY: Forest Service, USDA.

ACTION: Revised notice of intent to prepare an environmental impact statement.

SUMMARY: Reference is made to our notice of intent to prepare an environmental impact statement for the Duck-Sheriff Project (FR Document. 99-2377 filed 1/27/99) published in the Federal Register, Volume 64, No. 21, Tuesday, February 2, 1999, pages 5019-5020.

In accordance with Forest Service Environmental Policy and Procedures handbook 1909.15, part 21.2—Revision of Notices of Intent, we are revising the date that the Draft Environmental Impact Statement is expected to be filed with the Environmental Protection Agency and be available for public review and comment on April 1, 2000. Subsequently, the date the final EIS is scheduled to be completed is revised to be July 1, 2000.

FOR FURTHER INFORMATION CONTACT: Jim Apgar, Bradford Ranger District at HCI Box 88, Bradford, PA 16701 or by telephone at 814/362-4613.

Dated: February 17, 2000.
John R. Schultz,
Bradford District Ranger.

[FR Doc. 00-4542 Filed 2-25-00; 8:45 am]

BILLING CODE 3410-11-M